DEPARTMENT OF EDUCATION

National Assessment Governing Board; Meeting

AGENCY: National Assessment Governing Board; Education.

ACTION: Notice of open meeting and partially closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e., interpreting services, assistive listening devices, materials in alternative format) should notify Munira Mwalimu at (202) 357-6938 or at Munira.Mwalimu@ed.gov no later than May 2, 2005. We will attempt to meet requests after this date, but cannot guarantee availability of the requested accommodation. The meeting site is accessible to individuals with disabilities.

DATES: May 19-21, 2005.

Times:

May 19:

Committee Meetings:

Assessment Development Committee: Closed Session—1 p.m. to 2 p.m.; Open Session—2 p.m. to 4 p.m.;

Reporting and Dissemination Committee: Open Session—2 p.m. to 4 p.m.;

Executive Committee: Open Session—4:30 p.m. to 5:30 p.m.; Closed Session 5:30 p.m. to 6 p.m.

May 20:

Full Board: Open Session—8 a.m. to 12 p.m.; Closed Session 12 p.m.-1 p.m.; Open session 1 p.m.-4:15 p.m.

Committee Meetings:

Assessment Development Committee: Open Session—10 a.m. to 12 p.m.;

Committee on Standards, Design, and Methodology: Open Session—10 a.m. to 12 p.m.;

Reporting and Dissemination Committee: Open session—10 a.m. to 12 p.m.;

May 21:

Nominations Committee—Open Session 8 a.m to 8:45 a.m.

Full Board: Open Session—9 a.m. to 12 p.m.

Location: Georgia Tech Hotel and Conference Center, 800 Spring Street NW., Atlanta, GA 30380.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on May 19 from 1 p.m. to 2 p.m. to review the Statement of Work for development of a Writing Framework and Specifications for the 2011 National Assessment of Educational Progress (NAEP) Writing Assessment. The Governing Board anticipates releasing the Request for Proposals for this work in July 2005. This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On May 19, the Reporting and Dissemination Committee will meet in open session from 2 p.m. to 4 p.m.

The Executive Committee will meet in open session on May 19 from 4:30 p.m. to 5:30 p.m. and in closed session from 5:30 p.m. to 6 p.m. The Committee will receive independent government cost estimates for contracts related to the National Assessment of Educational Progress (NAEP). This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On May 20, the full Board will meet in open session from 8:30 a.m. to 12 p.m. The Board will approve the agenda and the Chairman will introduce new Board members, who will then be administered the Oath of Office. Mark Musick, President of the Southern Regional Education Board, will welcome the Board. The Board will then hear the Executive Director's report and receive an update on the work of the National Center for Education Statistics (NCES) from the Commissioner of NCES.

From 10 a.m. to 12 p.m. on May 20, the Board's standing committees—the Assessment Development Committee; the Committee on Standards, Design, and Methodology; and the Reporting and Dissemination Committee—will meet in open session.

The full Board will meet in closed session on May 20 from 12 p.m. to 1 p.m. The Board will receive a draft report from the National Center for Education Statistics on the Long-term Trend Report in Reading and Mathematics. These data constitute a major basis for the national release of the Long-term Trend Report and cannot be released in an open meeting prior to the official release of the report. The meeting must be therefore be conducted in closed session as disclosure of data would significantly impede implementation of the NAEP program, and is therefore protected by exemption 9(B) of section 552b(c) of Title 5 U.S.C.

On May 20, the full Board will meet in open session from 1 p.m. to 4 p.m. At 1 p.m. Board members will discuss 12th Grade NAEP. This item will be followed by Board discussion and action on NAEP release and dissemination from 2:45 p.m. to 3:45 p.m. The Board will receive an update on the NAEP 2009 Science Framework from WestED from 3:45 p.m. to 4:15 p.m. after which the May 20 session of the Board meeting will adjourn.

On May 21, the Nominations Committee will meet in open session from 8 a.m. to 8:45 a.m. From 9 a.m. to 12 p.m. the full Board will convene in open session. At 9 a.m., the Board will hear a presentation on NAEP, NAGB, and SREB. Board actions on policies and Committee reports are scheduled to take place between 10:45 a.m. and 12 p.m., upon which the May 21, 2005 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: April 21, 2005.
Charles E. Smith,
Executive Director, National Assessment Governing Board.

[FR Doc. 05-8356 Filed 4-26-05; 8:45 am]

BILLING CODE 4000-01-M